GENERAL SERVICES ADMINISTRATION

Federal Travel Regulation (FTR); Reimbursement of Fees Associated with Airport Security Fast Pass Memberships; Notice of GSA Bulletin FTR 08-05

AGENCY: Office of Governmentwide Policy, General Services Administration (GSA).

ACTION: Notice of a bulletin.

SUMMARY: On June 25, 2008, the General Services Administration (GSA) issued a bulletin to inform agencies that fees for individual employee memberships in registered and/or trusted traveler programs (i.e., FlyClear) are not allowable expenses or reimbursements for purposes of Federal government travel under the Federal Travel Regulation (FTR). That bulletin, FTR Bulletin 08-05, may be found at www.gsa.gov/bulletins.

DATES: The bulletin announced in this notice is effective June 25, 2008, and is applicable to official Federal travel performed on or after June 25, 2008.

FOR FURTHER INFORMATION CONTACT Ms. Jane Groat, Office of Governmentwide Policy (M), Office of Travel, Transportation, and Asset Management (MT), General Services Administration at (202) 501-4318 or via e-mail at jane.groat@gsa.gov. Please cite FTR Bulletin 08-05.

Dated: July 10, 2008.
Patrick McConnell,
Acting Director, Travel Management Policy.

[FR Doc. E8-16356 Filed 7-16-08; 8:45 am]

BILLING CODE 6820-14-S